DEPARTMENT OF TRANSPORTATION

Federal Aviation Administration

14 CFR Part 71

[Docket No. FAA-2017-0107; Airspace Docket No. 16-AEA-11]

Amendment and Removal of VOR Federal Airways; Eastern United States

AGENCY: Federal Aviation Administration (FAA), DOT.

ACTION: Final rule.

SUMMARY: This action modifies VOR Federal airways V-14, V-265, V-464, and V-552, and removes V-90 in the eastern United States due to the planned decommissioning of the Dunkirk, NY, VORTAC navigation aid, which provides navigation guidance for portions of the above routes.

DATES: Effective date 0901, August 17, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the eastern United States to maintain the efficient flow of air traffic.

History

On March 6, 2017, the FAA published in the Federal Register a notice of proposed rulemaking (NPRM) (82 FR 12523) Docket No. FAA-2017-0107, to amend VOR Federal airways V-14, V-265, V-464, and V-552, and remove V-90, due to the planned decommissioning of the Dunkirk, NY, VORTAC. Interested parties were invited to participate in this rulemaking effort by submitting written comments on the proposal. One comment was received.

Discussion of Comment

The Aircraft Owners and Pilots Association (AOPA) wrote that, for those VOR NAVAIDs that are to be decommissioned, and for those airways that are correspondingly removed, the FAA should create an RNAV waypoint at the previous NAVAID location and retain all fixes and intersections along that route by amending their definition to that of an RNAV waypoint. For this specific action, there are no plans to replace the VORTAC and affected route fixes with RNAV waypoints as suggested. However, the distance measuring equipment (DME) function of the Dunkirk VORTAC will be retained in operation. In addition, to provide alternative navigation guidance in place of the airway segments that are being removed, the following routings are available:

V-14 currently extends between Chisum, NM, and Norwich, CT. This action removes the Dunkirk, NY, VORTAC from the route resulting in a gap in the airway between Erie, PA, and Buffalo, NY. The amended route extends between Chisum, NM, and Erie, PA; and between Buffalo, NY, and Norwich, CT. An alternative around the gap is V-270 from Erie, PA, to Jamestown, NY, then V-115 to Buffalo, NY, then rejoin V-14.

V-90 currently extends between Salem, MI, and Dunkirk, NY. This action cancels the entire route. As an alternative, V-418 currently overlies the same routing between Salem, MI, and the BEWEL, OH, fix. At that point, V-418 continues east to the Jamestown, NY, VOR/DME where northbound traffic could transition to V-115 to Buffalo, NY.

V-464 currently extends between Salem, MI, and Geneseo, NY. This action terminates the route at Aylmer, ON. After Aylmer, aircraft could transition to V-2 to Buffalo, NY, then V-14/V-84 to Geneseo, NY.

Domestic VOR Federal airways are published in paragraph 6010(a) of FAA Order 7400.11A dated August 3, 2016, and effective September 15, 2016, which is incorporated by reference in 14 CFR 71.1. The VOR Federal airways listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This final rule amends Title 14, Code of Federal Regulations (14 CFR) part 71 by modifying VOR Federal airways V-14, V-265, V-464, and V-552, and removing V-90 due to the planned decommissioning of the Dunkirk, NY, VORTAC. The route changes are described below.

V-14: V-14 extends between Chisum, NM, and Norwich, CT. This rule removes the segments between Erie, PA, and Buffalo, NY, thus eliminating Dunkirk, NY from the route. The amended route extends between Chisum, NM, and Erie, PA, and between Buffalo, NY, and Norwich, CT.

V-90: V-90 extends between Salem, MI, and Dunkirk, NY. V-90 is removed in its entirety.

V-265: V-265 extends between the intersection of the Washington, DC, 043° and the Westminster, MD, 179° radials and Toronto, ON, Canada. This rule removes the segments between Jamestown, NY, and Toronto, ON, Canada, thus terminating the northern end of the route at Jamestown, NY.

V-464: V-464 extends from Salem, MI, through Aylmer, Ontario, Canada to Geneseo, NY. This rule removes the segment between Aylmer, Ontario, Canada, and Geneseo, NY, thus terminating the route at Aylmer, Ontario, Canada.

V-522: V-522 extends between Dryer, OH, and Toronto, Ontario, Canada. This rule eliminates the route segments between Erie, PA, and Toronto, Ontario, Canada. The amended route extends between Dryer, OH, and Erie, PA.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule does not have a significant economic impact on a substantial number of small entities under the criteria of the Regulatory Flexibility Act.

Environmental Review

The FAA has determined that this action of modifying VOR Federal airways in the eastern United States due to the planned decommissioning of the Dunkirk, NY VORTAC navigation aid qualifies for categorical exclusion under the National Environmental Policy Act and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-14 [Amended]

From Chisum, NM; Lubbock, TX; Childress, TX; Hobart, OK; Will Rogers, OK; INT Will Rogers 052° and Tulsa, OK 246° radials; Tulsa; Neosho, MO; Springfield, MO; Vichy, MO; INT Vichy 067° and St. Louis, MO, 225° radials; St. Louis; Vandalia, IL; Terre Haute, IN; Brickyard, IN; Muncie, IN; Flag City, OH; INT Flag City 079° and Dryer, OH, 240° radials; Dryer; Jefferson, OH; to Erie, PA. From Buffalo, NY; Geneseo, NY; Georgetown, NY; INT Georgetown 093° and Albany, NY, 270° radials; Albany; INT Albany 084° and Gardner, MA, 284° radials; Gardner; to Norwich, CT.

V-90 [Removed]

V-265 [Amended]

From INT Washington, DC, 043° and Westminster, MD, 179° radials; via Westminster;

Harrisburg, PA; Philipsburg, PA; Keating, NY; Bradford, PA; to Jamestown, NY.

V-464 [Amended]

From Salem, MI; via INT Salem 082° and Aylmer, ON, Canada, 261° radials; to Aylmer, ON. The airspace within Canada is excluded.

V-522 [Amended]

From Dryer, OH; INT Dryer 049° and Erie, PA, 258° radials; to Erie.

Issued in Washington, DC, on June 6, 2017.
Scott M. Rosenbloom,
Acting Manager, Airspace Policy Group.

[FR Doc. 2017-12111 Filed 6-12-17; 8:45 am]

BILLING CODE 4910-13-P